DEPARTMENT OF AGRICULTURE

Agricultural Marketing Service

7 CFR Part 80

[Doc. No. FV-01-80-01]

Regulations Governing the Fresh Russet Potato Diversion Program, 2000 Crop

AGENCY: Agricultural Marketing Service, USDA.

ACTION: Extension of comment period and amendment to the proposed rule.

SUMMARY: The Agricultural Marketing Service (AMS) is extending the public comment period for regulations governing the fresh russet potato diversion program for the 2000 crop year. The AMS is also extending in proposed § 80.4 the period for producers to divert potatoes to eligible diversion outlets.

DATES: Written comments must be received on or before June 12, 2001.

ADDRESSES: Interested persons are invited to submit written comments concerning this action to: Susan Proden, Chief, Commodity Procurement Branch, Fruit and Vegetable Programs, AMS, USDA, P. O. Box 96456, Room 2546—South Building, Washington, DC 20090-6456; Fax: (202) 720-2782, or visit the website at: http://www.ams.usda.gov/fv/fvcomm.htm. All written submissions made pursuant to this proposed rule will be made available for public inspection in Room 2546—South Building, USDA, between the hours of 8:00 a.m. and 4:30 p.m. Monday through Friday.

FURTHER INFORMATION CONTACT: Susan Proden, Branch Chief, Room 2546—South Building, USDA or call (202) 720-4517. Information may also be obtained at the website: http://www.ams.usda.gov/fv/fvcomm.htm.

FOR THE NEAREST FEDERAL INSPECTION OFFICES CONTACT: 1-800-811-2373 or visit the website at: http://www.ams.usda.gov/fv/fpboffices.html.

SUPPLEMENTARY INFORMATION: A proposed rule was published in the Federal Register on April 13, 2001. The proposal invited comments on the procedures setting forth the terms of the Fresh Russet Potato Diversion Program for the 2000 crop year pursuant to clause (2) of section 32 of the Act of August 24, 1935, as amended. The proposed program will assist fresh russet potato growers faced with oversupplies and low prices by diverting potatoes to charitable institutions, for livestock feed, to convert them to ethanol, and to render them nonmarketable and dispose of in accordance with federal, state and local regulations. AMS is extending the public comment period from May 13, 2001 to June 12, 2001 and amending the proposed rule to extend, by an additional 30 days, the period for producers to divert potatoes to eligible diversion outlets until June 12, 2001. This action was based on a request from farmers who have had difficulty finding eligible diversion outlets due to the time they need for Spring planting. In addition, the volumes signed up thus far remain below 2 million hundredweight, far short of the program's goal.

Accordingly, we are amending §§ 80.4 and 80.9 of the proposed regulation, found in the April 13, 2001, Federal Register, pages 19099-19102 to read as follows:

PART 80—[AMENDED]

§ 80.4 Length of program.

This program is effective April 13, 2001. Producers diverting potatoes to charitable institutions, livestock feed, ethanol production, or rendering them nonmarketable must complete the diversion of the 2000 crop potatoes no later than June 12, 2001.

§ 80.9 Claim for payment.

(a) In order to obtain payment for shipments to charitable institutions, the producer must submit to the county FSA office between June 13 and July 13, 2001, a certified FV-184 or FV-301 inspection certificate, a completed Form FSA-117, and a bill of lading showing shipment was made.

(b) To obtain payment for potatoes diverted to livestock feed, ethanol production or rendering nonmarketable, the producer must submit to the county FSA office between June 13 and July 13, 2001 each of the following: a properly executed Form FSA-117, an inspection certificate (FV-184 or FV-301), a livestock feed recipient, or an ethanol production or disposal delivery receipt (issued by livestock feed lot, ethanol plant or federal-state inspector) indicating hundredweight received, the date, name, address and telephone number of the recipient.

Dated: May 11, 2001.
Kenneth C. Clayton,
Acting Administrator, Agricultural Marketing Service.

[FR Doc. 01-12389 Filed 5-11-01; 4:43 pm]

BILLING CODE 3410-02-U